SECURITIES AND EXCHANGE COMMISSION

[Release No. 34-91786; File No. SR-NYSEArca-2020-105]

Self-Regulatory Organizations; NYSE Arca, Inc.; Notice of Withdrawal of a Proposed Rule Change To List and Trade the Shares of the Teucrium Water Fund Under NYSE Arca Rule 8.200-E, Commentary .02

May 6, 2021.

On November 25, 2020, NYSE Arca, Inc. (“Exchange” or “NYSE Arca”) filed with the Securities and Exchange Commission (“Commission”), pursuant to Section 19(b)(1) of the Securities Exchange Act of 1934 (“Act”) ¹ and Rule 19b-4 thereunder,² a proposed rule change to list and trade the shares of the Teucrium Water Fund under NYSE Arca Rule 8.200-E, Commentary .02.

¹ 15 U.S.C. 78s(b)(1).

² 17 CFR 240.19b-4.

The proposed rule change was published for comment in the Federal Register on December 14, 2020.³ On January 14, 2021, pursuant to Section 19(b)(2) of the Act,⁴ the Commission designated a longer period within which to approve the proposed rule change, disapprove the proposed rule change, or institute proceedings to determine whether to disapprove the proposed rule change.⁵ On March 9, 2021, the Commission instituted proceedings under Section 19(b)(2)(B) of the Act ⁶ to determine whether to approve or disapprove the proposed rule change.⁷ The Commission has received comments on the proposed rule change.⁸ On May 6, 2021, the Exchange withdrew the proposed rule change (SR-NYSEArca-2020-105).

³ See Securities Exchange Act Release No. 90608 (December 8, 2020), 85 FR 80854.

⁴ 15 U.S.C. 78s(b)(2).

⁵ See Securities Exchange Act Release No. 90927, 86 FR 6719 (January 22, 2021).

⁶ 15 U.S.C. 78s(b)(2)(B).

⁷ See Securities Exchange Act Release No. 91283, 86 FR 14356 (March 15, 2021).

⁸ Comments received on the proposed rule change are available at: https://www.sec.gov/comments/sr-nysearca-2020-105/srnysearca2020105.htm.

For the Commission, by the Division of Trading and Markets, pursuant to delegated authority.⁹
⁹ 17 CFR 200.30-3(a)(12).
J. Matthew DeLesDernier,
Assistant Secretary.

[FR Doc. 2021-09974 Filed 5-11-21; 8:45 am]

BILLING CODE 8011-01-P